DEPARTMENT OF AGRICULTURE

Agricultural Marketing Service

7 CFR Part 57

[Doc. No. AMS-LPS-14-0055]

RIN 0581-AD41

Revision To Incorporate the Electronic Submission of the Import Request of Shell Eggs

AGENCY: Agricultural Marketing Service, USDA.

ACTION: Final rule.

SUMMARY: The Agricultural Marketing Service (AMS) is revising the regulations governing the inspection of eggs to streamline the importation process for table eggs, hatching eggs, and inedible liquid egg by allowing the import request to be filed electronically through the U.S. Customs and Border Protection's (CBP) International Trade Data System.

DATES: This final rule is effective on January 13, 2016.

FOR FURTHER INFORMATION CONTACT: David Bowden, Chief, Standardization Branch, Quality Assessment Division, Livestock, Poultry, and Seed Program, Agricultural Marketing Service, U.S. Department of Agriculture, Stop 0258, Room 3932S, 1400 Independence Avenue SW., Washington, DC 20250, by phone (202) 690-3148, or via email David.Bowden@ams.usda.gov.

SUPPLEMENTARY INFORMATION:

Background

AMS administers the Shell Egg Surveillance Program, a mandatory inspection program for shell eggs under the Egg Products Inspection Act (EPIA) (21 U.S.C. 1031 et seq.). This inspection program ensures that shell eggs sold to consumers contain no more restricted eggs than are permitted in the standards for consumer grades. Restricted eggs may contain dirty or cracked shells, eggs leaking internal contents, and eggs with meat or blood spots in the interior. Regulations governing EPIA are contained in 7 CFR part 57.

On February 19, 2014, the President signed Executive Order (EO) 13659, streamlining the export/import process for America's businesses. EO 13659 outlines the use of the International Trade Data System (ITDS), an efficient and cost effective trade processing infrastructure that will modernize and simplify the export and import of cargo. The goal of ITDS is to eliminate the redundant reporting of data, replacing multiple filings, many of which are on paper, with a single electronic filing. AMS participated in the development of ITDS, a government-wide project that will allow traders to file shipment data through an electronic “single window” instead of completing multiple paper-based forms to report the same information to different government agencies. ITDS will reduce the burden on America's export and import trade, while still providing information necessary for the U.S. to ensure compliance with its laws. AMS will incorporate electronic filing of import requests for shell eggs to comply with EO 13659.

Automated Commercial Environment (ACE) Interface

CBP has developed the Automated Commercial Environment (ACE), a U.S. commercial trade processing system that automates border processing of products. The ACE system connects the trade community and participating government agencies by providing a single, centralized, online access point. When applicants file entries with CBP through ACE, relevant data is electronically distributed to appropriate government agencies. AMS considers all electronic data entered in ACE as certified by the applicant. In addition, AMS considers any electronic records, digital images, data, or information from a foreign government for foreign inspection and foreign establishment certification to be equivalent to paper records and certified by the foreign government. When developing, procuring, maintaining, or using electronic information technology (EIT), Federal agencies are required by Section 508(a)(1)(a) of the Rehabilitation Act of 1973 (29 U.S.C. 794d) to ensure that EIT is accessible to people with disabilities, including employees and members of the public. The ACE interface meets these requirements.

Therefore, for the reasons specified above, we are revising the shell egg import regulations to include that applicants may submit LPS Form 222-Import Request electronically.

Comments

A proposed rule to streamline the importation process was published in the Federal Register (80 FR 32867) on June 10, 2015. Comments on the proposed rule were solicited from interested parties until August 10, 2015. No comments were received.

Executive Order 12866, 13563, and the Regulatory Flexibility Act

This action has been determined to be not significant for the purposes of Executive Order 12866 and, therefore, has not been reviewed by the Office of Management and Budget (OMB).

In accordance with the Regulatory Flexibility Act, 5 U.S.C. 603, we have performed an initial regulatory flexibility analysis regarding economic effects of this final rule on small entities. Copies of the analysis are available by contacting the person listed under FOR FURTHER INFORMATION CONTACT.

Based on the information we have, AMS has determined that this regulation, as revised, will not have a significant impact on a substantial number of small entities.

Executive Order 12988

This action has been reviewed under Executive Order 12988, Civil Justice Reform. This action would have no retroactive effects and would not require administrative proceedings before parties may file suit in court challenging this rule. Pursuant to section 23 of the EPIA (21 U.S.C. 1052), states or local jurisdictions are preempted from requiring the use of standards of quality, condition, weight, quantity, or grade which are in addition to or different from Federal standards for any eggs which have moved or are moving in interstate or foreign commerce.

Executive Order 13175

This action has been reviewed in accordance with the requirements of Executive Order 13175, Consultation and Coordination with Indian Tribal Governments. The review reveals that this regulation will not have substantial and direct effects on tribal governments and will not have significant tribal implications.

Paperwork Reduction Act

In accordance with the Paperwork Reduction Act of 1995 (44 U.S.C. Chapter 35), OMB has approved the information collection and recordkeeping requirements included in this final rule, and there are no new requirements. Should any changes become necessary, they would be submitted to OMB for approval. The assigned OMB control number is 0581-0113.

AMS is committed to compliance with the Government Paperwork Elimination Act, which requires that, when practicable, Federal agencies allow individuals to submit information and transact with the agency electronically.

E-Government Act

AMS is committed to complying with the E-Government Act of 2002 to promote the use of the Internet and other information technologies to provide increased opportunities for citizen access to government information and services, and for other purposes.

List of Subjects in 7 CFR Part 57

Eggs and egg products, Exports, Food grades and standards, Imports, Reporting and recordkeeping requirements.

For the reasons set forth in the preamble, 7 CFR part 57 is amended as follows:

PART 57—REGULATIONS GOVERNING THE INSPECTION OF EGGS (EGG PRODUCTS INSPECTION ACT)

1. The authority citation for part 57 continues to read as follows:

Authority: 21 U.S.C. 1031-1056.

2. Revise § 57.920 to read as follows:

§ 57.920 Importer to make application for inspection of imported eggs.

Each person importing any eggs as defined in these regulations, unless exempted by § 57.960 shall make application for inspection upon LPS Form 222- Import Request. The application may be submitted to the address located on LPS Form 222, filed through electronic submission via QAD.importrequesteggs@ams.usda.gov, or by accessing the U.S. Customs and Border Protection's International Trade Data System. Application shall be made as far in advance as possible prior to the arrival of the product. Each application shall state the approximate date of product arrival in the United States, the name of the ship or other carrier, the country from which the product was shipped, the destination, the quantity and class of product, and the point of first arrival in the United States.

Dated: January 7, 2016.
Rex A. Barnes,
Associate Administrator, Agricultural Marketing Service.

[FR Doc. 2016-00438 Filed 1-12-16; 8:45 am]

BILLING CODE 3410-02-P